DEPARTMENT OF THE INTERIOR

Fish and Wildlife Service

Docket No. FWS-HQ-IA-2023-0184; FXIA16710900000-234-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with foreign species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by November 3, 2023.

ADDRESSES:

Obtaining Documents: The applications, application supporting materials, and any comments and other materials that we receive will be available for public inspection at https://www.regulations.gov in Docket No. FWS-HQ-IA-2023-0184.

Submitting Comments: When submitting comments, please specify the name of the applicant and the permit number at the beginning of your comment. You may submit comments by one of the following methods:

• internet: https://www.regulations.gov. Search for and submit comments on Docket No. FWS-HQ-IA-2023-0184.

• U.S. mail: Public Comments Processing, Attn: Docket No. FWS-HQ-IA-2023-0184; U.S. Fish and Wildlife Service Headquarters, MS: PRB/3W; 5275 Leesburg Pike; Falls Church, VA 22041-3803.

For more information, see Public Comment Procedures under SUPPLEMENTARY INFORMATION.

FOR FURTHER INFORMATION CONTACT: Brenda Tapia, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at https://www.regulations.gov unless our allowing so would violate the Privacy Act (5 U.S.C. 552a) or Freedom of Information Act (5 U.S.C. 552).

C. Who Will See My Comments?

If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17.

III. Permit Applications

We invite comments on the following applications.

Applicant: University of Georgia, College of Veterinary Medicine, Infectious Diseases Laboratory, Athens, GA; PER4208692

The applicant requests authorization to import tissue or blood samples of any captive-bred or wild avian species (class Aves), reptile species (class Reptilia), and fish (within the taxonomic phylum Chordata) from locations worldwide for the purpose of diagnostic testing for infectious diseases/scientific research. This notification covers activities to be conducted by the applicant over a 5-year period.

Applicant: University of Florida, Gainesville, FL; Permit No. PER3940627

The applicant requests renewal of a permit to import scientific samples collected from wild live and salvaged hawksbill (Eretmochelys imbricata) and leatherback (Dermochelys coriacea) sea turtles from Nicaragua for the purpose of scientific research. This notification covers activities to be conducted by the applicant over a 5-year period.

Applicant: Duke University, Durham, NC; Permit No. PER4463030

The applicant requests a permit to export scientific samples collected from 17 captive-bred chimpanzees (Pan troglodytes) from the United States to Germany for the purpose of scientific research. This notification covers activities to be conducted by the applicant over a 3-year period.

Applicant: NOAA, Miami, FL; Permit No. PER4327126

The applicant requests renewal of a permit for import, export, and introduction from the sea of biological samples derived from live or salvaged from dead specimens of species, to include Caretta caretta (loggerhead sea turtle), Chelonia mydas (green sea turtle), Lepidochelys kempii (Kemp's Ridley sea turtle), Lepidochelys olivacea (Olive Ridley sea turtle), Eretmochelys imbricata (hawksbill sea turtle), and Dermochelys coriacea (leatherback sea turtle) for the purpose of scientific research. This notification covers activities to be conducted by the applicant over a 5-year period.

Applicant: Hemker Park and Zoo, Freeport, MN; Permit No. PER4234292

The applicant requests a captive-bred wildlife registration under 50 CFR 17.21(g) for the following species, to enhance the propagation or survival of the species. This notification covers activities to be conducted by the applicant over a 5-year period.

Common name | Scientific name
Ring- tail lemur | Lemur catta.
Cotton-top tamarin | Saguinus oedipus.
Black-and-white ruffed lemur | Varecia rubra.
Grevy's zebra | Equus grevyi.
Black-footed penguin | Spheniscus demersus.
Arabian oryx | Oryx leucoryx.
Japanese crane | Grus japonensis.
White-naped crane | Grus vipio.
Bontebok | Damaliscus pygargus (=Dorcas) dorcas.
Slender-horn gazelle | Gazella leptoceros.
Cuvier's gazelle | Gazella cuvieri.

Applicant: Disney's Animal Kingdom, Bay Lake, FL; Permit No. PER4361497

The applicant requests to renew a captive-bred wildlife registration under 50 CFR 17.21(g) for the following species, to enhance the propagation or survival of the species. This notification covers activities to be conducted by the applicant over a 5-year period.

Common name | Scientific name
Komodo monitor | Varanus komodoensis.
Galapagos giant tortoise | Chelonoidis niger.
Radiated tortoise | Astrochelys radiata.
White-naped crane | Grus vipio.
Lechwe | Kobus leche.
Eld's deer | Rucervus eldii.
North Sulawesi babirusa | Babyrousa celebensis.
Southern white rhinoceros | Ceratotherium simum simum.
Black rhinoceros | Diceros bicornis.
Somali wild ass | Equus africanus somalicus.
Hartmann's mountain zebra | Equus zebra hartmannae.
Grevy's zebra | Equus grevyi.
African wild dog | Lycaon pictus.
Sumatran tiger | Panthera tigris sumatrae.
Cheetah | Acinonyx jubatus.
Western gorilla | Gorilla gorilla.
Siamang | Symphalangus syndactylus.
Northern white-cheeked gibbon | Nomascus leucogenys.
Mandrill | Mandrillus sphinx.
Lion-tailed macaque | Macaca silenus.
Cottontop tamarin | Saguinus oedipus.
Golden lion tamarin | Leontopithecus rosalia.
Ring-tailed lemur | Lemur catta.
Red-collared brown lemur | Eulemur collaris.
Bontebok | Damaliscus pygargus pygargus.
African lion | Panthera leo.

Applicant: Toledo Zoological Society, Toledo, OH; Permit No. PER4417242

The applicant requests to amend a captive-bred wildlife registration under 50 CFR 17.21(g) to add the following species to enhance the propagation or survival of the species. This notification covers activities to be conducted by the applicant over a 5-year period.

Common name | Scientific name
Jackass penguin | Spheniscus demersus.
Kagu | Rhynochetos jubatus.
Siberian tiger | Panthera tigris altaica.
Bornean orangutan | Pongo pygmaeus.
Cheetah | Acinonyx jubatus.
Francois' langur | Trachypithecus francoisi.
Pied tamarin | Saguinus bicolor.
Indian rhinoceros | Rhinoceros unicornis.
Ring-tailed lemur | Lemur catta.
Snow leopard | Uncia uncia.
Western gorilla | Gorilla gorilla.
Northern white-cheeked gibbon | Nomascus leucogenys.
Tartaruga | Podocnemis expansa.
Komodo monitor | Varanus komodoensis.
Panamanian golden frog | Atelopus zeteki.
Tuatara | Sphenodon punctatus.
Saltwater crocodile | Crocodylus porosus.

Multiple Trophy Applicants

The following applicants request permits to import sport-hunted trophies of male bontebok (Damaliscus pygargus pygargus) culled from a captive herd maintained under the management program of the Republic of South Africa, for the purpose of enhancing the propagation or survival of the species.

• Teddy Dickerson, Hillsville, VA; Permit No. PER4459612

• Sammy Shaw, Galax, VA; Permit No. PER4459661

• Patrick Fitzgerald, Parker, CO; Permit No. PER4549178

• Loren Griess, Hastings, NE; Permit No. PER4581626

IV. Next Steps

After the comment period closes, we will make decisions regarding permit issuance. If we issue permits to any of the applicants listed in this notice, we will publish a notice in the Federal Register. You may locate the notice announcing the permit issuance by searching https://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Brenda Tapia,
Supervisory Program Analyst/Data Administrator, Branch of Permits, Division of Management Authority.

[FR Doc. 2023-21998 Filed 10-3-23; 8:45 am]

BILLING CODE 4333-15-P